NUCLEAR REGULATORY COMMISSION

[NRC-2018-0269]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from November 6, 2018, to November 19, 2018. The last biweekly notice was published on November 20, 2018.

DATES: Comments must be filed by January 3, 2019. A request for a hearing must be filed by February 4, 2019.

ADDRESSES: You may submit comments by any of the following methods

• Federal Rulemaking Website: Go to http://www.regulations.gov and search for Docket ID NRC-2018-0269. Address questions about Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Lynn Ronewicz, Office of Nuclear Reactor Regulation, U.S. Nuclear Regulatory Commission, Washington DC 20555-0001; telephone: 301-415-1927, email: Lynn.Ronewicz@nrc.gov.

SUPPLEMENTARY INFORMATION:

I. Obtaining Information and Submitting Comments

A. Obtaining Information

Please refer to Docket ID NRC-2018-0269, facility name, unit number(s), plant docket number, application date, and subject when contacting the NRC about the availability of information for this action. You may obtain publicly-available information related to this action by any of the following methods:

• Federal Rulemaking Website: Go to http://www.regulations.gov and search for Docket ID NRC-2018-0269.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2018-0269, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof, does not need to address the standing requirements in 10 CFR 2.309(d) if the facility is located within its boundaries. Alternatively, a State, local governmental body, Federally-recognized Indian Tribe, or agency thereof, may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment application(s), see the application for amendment which is available for public inspection in ADAMS and at the NRC's PDR. For additional direction on accessing information related to this document, see the “Obtaining Information and Submitting Comments” section of this document.

Union Electric Company, Docket No. 50-483, Callaway Plant, Unit 1, Callaway County, Missouri

Date of amendment request: September 4, 2018. A publicly-available version is in ADAMS under Accession No. ML18247A467.

Description of amendment request: The amendment would revise Emergency Action Levels (EALs) CA6.1, “Cold Shutdown/Refueling System Malfunction—Hazardous event affecting a SAFETY SYSTEM needed for the current operating MODE: Alert,” and SA9.1, “System Malfunction—Hazardous event affecting a SAFETY SYSTEM needed for the current operating MODE: Alert.” The amendment would also add a new definition for the term “Loss of Safety Function (LOSF),” while redefining the term “Visible Damage,” and deleting the term Initiating Condition (IC) HG1 and associated EAL HG1.1, “Hazard—Hostile Action resulting in loss of physical control of the facility: General Emergency,” within the Callaway Plant's Radiological Emergency Response Plan (RERP).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the Callaway Plant emergency action levels do not impact the physical function of plant structures, systems, or components (SSC) or the manner in which SSCs perform their design function. The proposed changes have no effect on accident initiators or precursors, nor do they alter design assumptions. The proposed changes do not alter or prevent the ability of SSCs to perform their intended function to mitigate the consequences of an initiating event within assumed acceptance limits. No operating procedures or administrative controls that function to prevent or mitigate accidents are affected by the proposed changes. Therefore, the proposed changes do not involve a significant increase in the probability or consequences of an accident previously evaluated.

2. Does the proposed amendment create the possibility of a new or different kind of accident from any accident previously evaluated?

Response: No.

The proposed changes do not involve a physical alteration of the plant (i.e., no new or different type of equipment will be installed, and no equipment will be removed), nor do the proposed changes involve a change in the method of plant operation. The proposed changes will not introduce failure modes that could result in a new accident, nor do the changes alter assumptions made in the safety analysis. Therefore, the proposed change does not create the possibility of a new or different kind of accident from any accident previously evaluated.

3. Does the proposed amendment involve a significant reduction in a margin of safety?

Response: No.

There is no change being made to safety analysis assumptions, safety limits, or limiting safety system settings that would adversely affect plant safety as a result of the proposed changes. There are no changes to setpoints or environmental conditions of any SSC or the mariner in which any SSC is operated. Margins of safety are unaffected by the proposed changes. The applicable requirements of 10 CFR 50.47 and 10 CFR 50, Appendix E will continue to be met. Therefore, the proposed changes do not involve any reduction in a margin of safety.

The NRC staff has reviewed the licensee's analysis and, based on this review, it appears that the three standards of 10 CFR 50.92(c) are satisfied. Therefore, the NRC staff proposes to determine that the amendment request involves no significant hazards consideration.

Attorney for licensee: John O'Neill, Pillsbury Winthrop Shaw Pittman LLP, 2300 N Street NW, Washington, DC 20037.

NRC Branch Chief: Robert J. Pascarelli.

Pacific Gas and Electric Company, Docket Nos. 50-275 and 50-323, Diablo Canyon Nuclear Power Plant, Units 1 and 2 (DCPP), San Luis Obispo County, California

Date of amendment request: September 12, 2018. A publicly-available version is in ADAMS under Accession No. ML18255A368.

Description of amendment request: The proposed amendments would revise the Emergency Plan for DCPP to extend staff augmentation times for Emergency Response Organization (ERO) functions.

Basis for proposed no significant hazards consideration determination: As required by 10 CFR 50.91(a), the licensee has provided its analysis of the issue of no significant hazards consideration, which is presented below:

1. Does the proposed change involve a significant increase in the probability or consequences of an accident previously evaluated?

Response: No.

The proposed increase in staff augmentation times has no effect on normal plant operation or on any accident initiator or precursors and does not impact the function of plant structures, systems, or components. The proposed change does not alter or prevent the ability of the ERO to perform their intended functions to mitigate the consequences of an accident or event. The ability of the ERO to respond adequately to radiological emergencies has been demonstrated as acceptable in a staffing analysis as required by 10 CFR 50 Appendix E.IV.A.9.

Therefore, the proposed DCPP Emergency Plan changes do not involve a significant increase in the probability or consequences of an accident previously evaluated.

2. Does the proposed change create the possibility of a new or different kind of accident from any accident previously evaluated?

Response: No.

The proposed change does not impact the accident analysis. The change does not involve a physical alteration of the plant (i.e., no new or different type of equipment will be installed), a change in the method of plant operation, or new operator actions. The proposed change does not introduce failure modes that could result in a new accident, and the change does not alter assumptions made in the safety analysis. This proposed change increases the staff augmentation response times in the DCPP Emergency Plan, which are demonstrated as acceptable through a staffing analysis as required by 10 CFR 50 Appendix E.IV.A.9. The proposed change does not alter or prevent the ability of the ERO to perform their intended functions to mitigate the consequences of an accident or event.

Therefore, the proposed change does not create the possibility of a new or different kind of accident from any accident previously evaluated.

3. Does the proposed change involve a significant reduction in a margin of safety?

Response: No.

Margin of safety is associated with confidence in the ability of the fission product barriers (i.e., fuel cladding, reactor coolant system pressure boundary, and containment structure) to limit the level of radiation dose to the public. The proposed change is associated with the DCPP Emergency Plan staffing and does not impact operation of the plant or its response to transients or accidents. The change does not affect the Technical Specifications. The proposed change does not involve a change in the method of plant operation, and no accident analyses will be affected by the proposed change. Safety analysis acceptance criteria are not affected by this proposed change.

A staffing analysis and a functional analysis were performed for the proposed change on the timeliness of performing major tasks for the functional areas of the DCPP Emergency Plan. The analyses concluded that an extension in staff augmentation times would not significantly affect the ability to perform the required Emergency Plan tasks. Therefore, the proposed change is determined to not adversely affect the ability to meet 10 CFR 50.54(q)(2), the requirements of 10 CFR 50 Appendix E, and the emergency planning standards as described in 10 CFR 50.47 (b).

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer Post, Pacific Gas and Electric Company, P.O. Box 7442, San Francisco, CA 94120.

NRC Branch Chief: Robert J. Pascarelli.

Southern Nuclear Operating Company, Inc.; Georgia Power Company; Oglethorpe Power Corporation; Municipal Electric Authority of Georgia; and City of Dalton, Georgia, Docket Nos. 50-321 and 50-366, Edwin I. Hatch Nuclear Plant, Unit Nos. 1 and 2, Appling County, Georgia

Date of amendment request: June 29, 2018. A publicly-available version is in ADAMS under Accession No. ML18180A396.

Description of amendment request: The amendments would revise the Technical Specification (TS) requirements for the Hatch Nuclear Plant, Unit Nos. 1 and 2. Specifically, the amendments would increase the allowable values (AV) specified in TS Table 3.3.5.1-1 for automatic transfer of the high pressure coolant injection (HPCI) pump suction alignment from the condensate storage tank (CST) to the suppression pool for Unit Nos. 1 and 2. The proposed change would also increase the AV specified in TS Table 3.3.5.2-1 for automatic transfer of the reactor core isolation cooling (RCIC) pump suction alignment from the CST to the suppression pool for Unit No. 1.

Basis for proposed no significant hazards consideration determination: As required by 10 CFR 50.91(a), the licensee has provided its analysis of the issue of no significant hazards consideration, which is presented below:

1. Does the proposed change involve a significant increase in the probability or consequences of an accident previously evaluated?

Response: No.

The proposed change ensures the HPCI and RCIC pump automatic suction transfer functions from the CST to the suppression pool occur without introducing the possibility of vortex formation or air intrusion in the HPCI or RCIC pump suction path. The water level of the CST on automatic suction transfer of the HPCI and RCIC systems to the suppression pool is not an initiator or precursor to any accident previously evaluated. The CST water source is not assumed to mitigate the consequences for any design basis accident, but is assumed as a water source for the RCIC when mitigating a station blackout event. The revised AV will ensure the RCIC can perform this function.

Therefore, the proposed change does not involve a significant increase in the probability or consequences of an accident previously evaluated.

2. Does the proposed change create the possibility of a new or different kind of accident from any accident previously evaluated?

Response: No.

The proposed change ensures the HPCI and RCIC pump automatic suction transfer functions from the CST to the suppression pool occur without introducing the possibility of vortex formation or air intrusion in the HPCI or RCIC pump suction path. HPCI, RCIC, and CST design functions are unaffected by this change. The change to the HPCI and RCIC automatic suction transfer functions would not create the possibility of any credible failure mechanism not considered in the design and licensing basis. Additionally, no new credible failure modes for the CST are introduced by the proposed changes.

Therefore, the proposed changes do not create the possibility of a new or different kind of accident from any previously evaluated.

3. Does the proposed change involve a significant reduction in a margin of safety?

Response: No.

The proposed change ensures the HPCI and RCIC pump automatic suction transfer functions from the CST to the suppression pool occur without introducing the possibility of vortex formation or air intrusion in the HPCI or RCIC pump suction path. The applicable margins of safety are the AVs for the HPCI and RCIC pump automatic suction transfer functions. The proposed change increases the margin of safety by revising the affected AVs to address more severe circumstances than considered in the current AVs. The proposed change does not exceed or alter a design basis or safety limit.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P.O. Box 1295, Birmingham, AL 35201-1295.

NRC Branch Chief: Michael T. Markley.

Southern Nuclear Operating Company, Inc.; Georgia Power Company; Oglethorpe Power Corporation; Municipal Electric Authority of Georgia; and City of Dalton, Georgia, Docket Nos. 50-321 and 50-366, Edwin I. Hatch Nuclear Plant, Unit Nos. 1 and 2, Appling County, Georgia

Date of amendment request: August 6, 2018. A publicly-available version is in ADAMS under Accession No. ML18218A297.

Description of amendment request: The amendments would revise the technical specification (TS) end state for the required actions of the drywell spray function of the residual heat removal system for the Hatch Nuclear Plant, Unit Nos. 1 and 2. Specifically, TS 3.6.2.5, “Residual Heat Removal (RHR) Drywell Spray,” would be revised to modify the required end state of Cold Shutdown (Mode 4) to the new required end state of Hot Shutdown (Mode 3) if the needed action statements are not met for Unit Nos. 1 and 2.

Basis for proposed no significant hazards consideration determination: As required by 10 CFR 50.91(a), the licensee has provided its analysis of the issue of no significant hazards consideration, which is presented below, with NRC staff edits in square brackets:

1. Does the proposed amendment involve a significant increase in the probability or consequences of an accident previously evaluated?

Response: No.

The RHR drywell spray function is not an initiator of any accident previously evaluated but is assumed to mitigate some accidents previously evaluated. However, the proposed change does not alter the design or safety function of the RHR system, including the drywell spray mode. The proposed change revises the end state when the time allowed by TS to continue operation is exceeded for the drywell spray mode of the RHR system. This request is limited to an end state where entry into the shutdown mode is for a short interval and the primary purpose is to correct the initiating condition and return to power operation as soon as practical. Risk insights from both the qualitative and quantitative risk assessment were used to support a change in end state for similar boiling water reactor (BWR) systems as summarized in GE [General Electric] topical report NEDC-32988. These assessments provide an integrated discussion of deterministic and probabilistic issues focusing on specific TSs used to support similar TS end states and associated restrictions. SNC [Southern Nuclear Operating Company] finds that the risk insights also support the conclusion of the proposed change to the RHR drywell spray TS. Therefore, the probability of an accident previously evaluated is not significantly increased, if at all.

The consequences of accidents previously evaluated that assume the drywell spray function in accident mitigation are based on the plant operating with the reactor critical and at power. A DBA in hot shutdown would be considerably less severe than a DBA [design-basis accident] occurring during power operation since hot shutdown is associated with lower initial energy level and reduced decay heat load. The risk and defense-in-depth reasoning, provided in GE topical report NEDC-32988, supports the conclusion that hot shutdown is as safe as cold shutdown (if not safer) for repairing an inoperable RHR subsystem. SNC concludes the proposed change is acceptable in light of defense-in-depth considerations and because the time spent in hot shutdown to perform the repair is infrequent and limited. Therefore, the consequences of any accident that assumes the drywell spray function are not significantly affected by this change.

Consequently, the proposed change does not involve a significant increase in the probability or consequences of an accident previously evaluated.

2. Does the proposed amendment create the possibility of a new or different kind of accident from any accident previously evaluated?

Response: No.

The proposed change does not change the design function or operation of the RHR drywell spray function. No plant modifications or changes to the plant configuration or method of operation are involved. If risk is assessed and managed, allowing a change to the end state for the RHR drywell spray TS when the allowed time for remaining in power operation with one or more RHR drywell spray subsystem inoperable is exceeded, i.e., entry into hot shutdown rather than cold shutdown to repair equipment, will not introduce new failure modes or effects and will not, in the absences of other unrelated failures, lead to an accident whose consequences exceed the consequences of accidents previously evaluated. The addition of a requirement to assess and manage the risk introduced by this change and the commitment to adhere to the industry guidance related to TS end states further minimizes possible concerns.

Therefore, the proposed change does not create the possibility of a new or different kind of accident from any accident previously evaluated.

3. Does the proposed amendment involve a significant reduction in a margin of safety?

Response: No.

The proposed change does not affect any of the controlling values of parameters used to avoid exceeding regulatory or licensing limits. The proposed change does not exceed or alter the design basis or safety limits, or any limiting safety system settings. The requirement for the drywell spray mode of the RHR system to perform its designated safety function is unaffected. The risk assessment approach used in the GE topical report NEDC-32988 is comprehensive and follows NRC staff guidance. The risk assessment, summarized in GE topical report NEDC-32988, included evaluations of systems with similar functions as the drywell spray function of the RHR system. In addition, the NEDC-32988 risk analyses show that the criteria of the three-tiered approach for allowing TS changes, in accordance with NRC staff guidance, are met. The risk assessments used to justify TS changes associated with containment heat removal systems are also applicable [to] the RHR drywell spray TS because these systems perform an equivalent function as the drywell spray mode of the RHR system and there are no unique aspects of the RHR drywell spray containment heat removal function that would change the conclusion that a hot shutdown end state is acceptable. The risk assessment used to justify the TS change associated with fission product cleanup systems is also applicable to the RHR drywell spray TS because the systems are functionally similar and there are no aspects of the HNP [Hatch Nuclear Plant] RHR drywell spray fission product cleanup function that would change the conclusion that a hot shutdown end state is acceptable. Therefore, SNC has determined that the acceptability of hot shutdown end state for systems previously evaluated with similar functions is also acceptable for the HNP RHR drywell spray TS. As such, the net change to the margin of safety as a result of the proposed change is insignificant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P.O. Box 1295, Birmingham, AL 35201-1295.

NRC Branch Chief: Michael T. Markley.

Tennessee Valley Authority (TVA), Docket No. 50-391, Watts Bar Nuclear Plant (WBN), Unit 2, Rhea County, Tennessee

Date of amendment request: March 5, 2018. A publicly-available version is in ADAMS under Accession No. ML18064A192.

Description of amendment request: The amendment would revise WBN Unit 2 Operating License (OL) Condition 2.C(4) to permit the use of the PAD4TCD computer program to continue to establish core operating limits until the WBN Unit 2 steam generators (SGs) are replaced with SGs equivalent to those in WBN Unit 1. The proposed change to allow the continued use of PAD4TCD to establish core operating limits until the installation of the WBN Unit 2 replacement SGs reflects TVA's plan for transitioning to PAD5 as part of the full spectrum loss-of-coolant accident (LOCA) Evaluation Methodology.

Basis for proposed no significant hazards consideration determination: As required by 10 CFR 50.91(a), the licensee has provided its analysis of the issue of no significant hazards consideration, which is presented below:

1. Does the proposed amendment involve a significant increase in the probability or consequences of an accident previously evaluated?

Response: No.

The Emergency Core Cooling System (ECCS) response to a large break LOCA as described in the WBN Unit 2 dual-unit Updated Final Safety Analysis Report (UFSAR) Section 15.4.1 incorporated an explicit evaluation of the effects of TCD [thermal conductivity degradation]. The UFSAR evaluation considered fuel burn-up values that represent multi-cycle cores where the effects of TCD would be more evident. These analyses showed that the criteria specified in Title 10 of the Code of Federal Regulations (CFR) § 50.46 are met. The core design process evaluates each reload core to verify that no fuel rods exceed the peaking limits shown in the WBN dual-unit UFSAR Table 15.4-24. This ensures that the LOCA analysis in the WBN Unit 2 dual-unit UFSAR remains bounding for future operating cycles.

The change to WBN Unit 2 OL Condition 2.C(4) does not change the safety analysis or any plant feature or design. Thus, it is concluded that a significant increase in the consequences of an accident previously evaluated will not occur as a result of the proposed change.

Therefore, the proposed change does not involve a significant increase in the probability or consequences of an accident previously evaluated.

2. Does the proposed amendment create the possibility of a new or different kind of accident from any accident previously evaluated?

Response: No.

The proposed change does not create the possibility of a new or different kind of accident from any accident previously evaluated. The proposed change to WBN Unit 2 OL condition 2.C(4) does not change or modify the plant design, introduce any new modes of plant operation, change or modify the design of the ECCS, or change or modify the accident analyses presented in the UFSAR.

Therefore, the proposed change does not create the possibility of a new or different kind of accident from any previously evaluated.

3. Does the proposed amendment involve a significant reduction in a margin of safety?

Response: No.

The LOCA safety analysis for WBN Unit 2 as described in the UFSAR explicitly accounts for the effect of TCD. The results of this analysis has established that WBN Unit 2 can operate safely in the unlikely event that a design basis LOCA event occurs, there are large margins to the regulatory limits when explicitly accounting for TCD. This proposed change to OL condition 2.C(4) does not change this analysis or its conclusions. Thus, the proposed change does not result in a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Undine Shoop.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the applications for amendment; (2) the amendment; and (3) the Commission's related letter, Safety Evaluation, and/or Environmental Assessment, as indicated. All of these items can be accessed as described in the “Obtaining Information and Submitting Comments” section of this document.

Exelon Generation Company, LLC, Docket Nos. STN 50-456 and STN 50-457, Braidwood Station, Units 1 and 2, Will County, Illinois

Date of amendment request: February 1, 2018, as supplemented by letters dated July 9, 2018, and August 3, 2018. Publicly-available versions are in ADAMS under Accession Nos. ML18036A227, ML18191B304, and ML18215A421, respectively.

Brief description of amendments: The amendments revised the licensing basis for protection from tornado-generated missiles by identifying the TORMIS Computer Code as the methodology used for assessing tornado-generated missile protection of unprotected plant structures, systems, and components.

Date of issuance: November 8, 2018.

Effective date: As of the date of issuance and shall be implemented within 90 days from the date of issuance.

Amendment Nos: 199 (Unit 1) and 199 (Unit 2). A publicly-available version is in ADAMS under Accession No. ML18291A980; documents related to these amendments are listed in the related Safety Evaluation enclosed with the amendments.

Renewed Facility Operating License Nos. NPF-72 and NPF-77: The amendments revised the licensing basis.

Date of initial notice in Federal Register: May 22, 2018 (83 FR 23734). The supplemental letters dated July 9, 2018, and August 3, 2018, provided additional information that clarified the application, did not expand the scope of the application as originally noticed, and did not change the NRC staff's original proposed no significant hazards consideration determination as published in the Federal Register.

The Commission's related evaluation of the amendments is contained in a Safety Evaluation dated November 8, 2018.

No significant hazards consideration comments received: No.

Exelon Generation Company, LLC, Docket Nos. 50-317 and 50-318, Calvert Cliffs Nuclear Power Plant (Calvert Cliffs), Units 1 and 2, Calvert County, Maryland; Exelon Generation Company, LLC, Docket Nos. 50-220 and 50-410, Nine Mile Point Nuclear Station (Nine Mile Point), Units 1 and 2, Oswego County, New York; Exelon Generation Company, LLC, Docket No. 50-244, R. E. Ginna Nuclear Power Plant (Ginna), Wayne County, New York

Date of amendment request: March 26, 2018.

Brief description of amendments: The amendments revised the licenses to eliminate the Nuclear Advisory Committee requirements for each facility.

Date of issuance: November 15, 2018.

Effective date: As of the date of issuance and shall be implemented within 60 days of the date of issuance.

Amendment Nos.: 327 (Calvert Cliffs, Unit 1), 305 (Calvert Cliffs, Unit 2), 232 (Nine Mile Point, Unit 1), 173 (Nine Mile Point, Unit 2), and 133 (Ginna). A publicly-available version is in ADAMS under Accession No. ML18309A301. Documents related to these amendments are listed in the Safety Evaluation enclosed with the amendments.

Renewed Facility Operating License Nos. DPR-53, DPR-69, DPR-63, NPF-69, and DPR-18: The amendments revised the Renewed Facility Operating Licenses.

Date of initial notice in Federal Register: May 8, 2018 (83 FR 20861).

The Commission's related evaluation of the amendments is contained in a safety evaluation dated November 15, 2018.

No significant hazards consideration comments received: No.

Energy Northwest, Docket No. 50-397, Columbia Generating Station, Benton County, Washington

Date of amendment request: December 18, 2017.

Brief description of amendment: The amendment revised Section 4.2 of Appendix B, “Environmental Protection Plan (Nonradiological),” of the Columbia Generating Station Renewed Facility Operating License to incorporate the terms and conditions of the incidental take statement included in the biological opinion issued by the National Marine Fisheries Service on March 10, 2017.

Date of issuance: November 8, 2018.

Effective date: As of the date of issuance and shall be implemented within 60 days from the date of issuance.

Amendment No.: 252. A publicly-available version is in ADAMS under Accession No. ML18283A125; documents related to this amendment are listed in the Safety Evaluation enclosed with the amendment.

Renewed Facility Operating License No. NPF-21: The amendment revised the Renewed Facility Operating License and Environmental Protection Plan.

Date of initial notice in Federal Register: March 13, 2018 (83 FR 10916).

The Commission's related evaluation of the amendment is contained in a Safety Evaluation dated November 8, 2018.

No significant hazards consideration comments received: No.

Indiana Michigan Power Company, Docket Nos. 50-315 and 50-316, Donald C. Cook Nuclear Plant, Unit Nos. 1 and 2, Berrien County, Michigan

Date of amendment request: June 11, 2018.

Brief description of amendments: The amendments allow for deviation from National Fire Protection Association 805 requirements to allow the use of performance-based methods for flexible metallic conduit in configurations other than to connect components, and for flexible metallic conduit in lengths greater than short lengths.

Date of issuance: November 16, 2018.

Effective date: As of the date of issuance and shall be implemented within 90 days of issuance.

Amendment Nos.: 342 (Unit 1) and 324 (Unit 2). A publicly-available version is in ADAMS under Accession No. ML18284A254; documents related to these amendments are listed in the Safety Evaluation enclosed with the amendments.

Renewed Facility Operating License Nos. DPR-58 and DPR-74: The amendments revised the Renewed Facility Operating Licenses.

Date of initial notice in Federal Register: August 28, 2018 (83 FR 43905).

The Commission's related evaluation of the amendments is contained in a Safety Evaluation dated November 16, 2018.

No significant hazards consideration comments received: No.

Indiana Michigan Power Company, Docket Nos. 50-315 and 50-316, Donald C. Cook Nuclear Plant, Unit Nos. 1 and 2, Berrien County, Michigan

Date of amendment request: November 7, 2017, as supplemented by letters dated January 19, 2018, and August 14, 2018.

Brief description of amendments: The amendments revised the Emergency Plan to move the Technical Support Center to a different location in a new facility located within the existing protected area.

Date of issuance: November 13, 2018.

Effective date: As of the date of issuance and shall be implemented within 180 days of issuance.

Amendment Nos.: 341 (Unit No. 1) and 323 (Unit No. 2). A publicly-available version is in ADAMS under Accession No. ML18249A019; documents related to these amendments are listed in the Safety Evaluation enclosed with the amendments.

Renewed Facility Operating License Nos. DPR-58 and DPR-74: The amendments revised the Renewed Facility Operating Licenses.

Date of initial notice in Federal Register: January 2, 2018 (83 FR 169). The supplemental letters dated January 19, 2018, and August 14, 2018, provided additional information that clarified the application, did not expand the scope of the application as originally noticed, and did not change the NRC staff's original proposed no significant hazards consideration determination as published in the Federal Register.

The Commission's related evaluation of the amendments is contained in a Safety Evaluation dated November 13, 2018.

No significant hazards consideration comments received: No.

Southern Nuclear Operating Company, Docket Nos. 50-348 and 50-364, Joseph M. Farley Nuclear Plant, Units 1 and 2, Houston County, Alabama

Date of amendment request: December 21, 2017, as supplemented by letter dated June 7, 2018.

Brief description of amendments: The amendments change Technical Specification (TS) 3.3.2, “Engineered Safety Feature Actuation System (ESFAS) Instrumentation,” by adding TS Actions that allow time to restore one high steam flow channel per steam line to Operable status before requiring a unit shutdown in the event two channels in one or more steam lines are discovered inoperable due to the trip setting not within Allowable Value.

Date of issuance: November 7, 2018.

Effective date: As of the date of issuance and shall be implemented within 30 days of issuance.

Amendment Nos.: 221 (Unit 1) and 218 (Unit 2). A publicly-available version is in ADAMS under Accession No. ML18271A207; documents related to these amendments are listed in the Safety Evaluation enclosed with the amendments.

Renewed Facility Operating License Nos. NPF-2 and NPF-8: The amendments revised the Renewed Facility Operating Licenses and TSs.

Date of initial notice in Federal Register: July 31, 2018 (83 FR 36977).

The Commission's related evaluation of the amendments is contained in a Safety Evaluation dated November 7, 2018.

No significant hazards consideration comments received: No.

Exelon Generation Company, LLC, Docket No. 50-244, R. E. Ginna Nuclear Power Plant, Wayne County, New York

Date of amendment request: November 16, 2017.

Brief description of amendment: The amendment revised the R. E. Ginna Nuclear Power Plant Technical Specifications for selected Reactor Trip System (RTS) and Engineered Safety Feature Actuation System (ESFAS) instrumentation channels. The change allows selected RTS (Table 3.3.1-1) and ESFAS instrumentation channels (Table 3.3.2-1) to be bypassed during surveillance testing. Additionally, the change allows RTS and ESFAS input relays to be excluded from the Channel Operational Test. The change allows testing of Nuclear Instrumentation System power range functions, which are part of the RTS, with a permanently installed bypass capability, while other RTS and ESFAS functions will be capable of being bypassed utilizing permanent connections in the racks to connect a portable test box.

Date of issuance: November 13, 2018.

Effective date: As of the date of issuance and shall be implemented within 60 days of issuance.

Amendment No.: 132. A publicly-available version is in ADAMS under Accession No. ML18213A369; documents related to this amendment are listed in the Safety Evaluation enclosed with the amendment.

Renewed Facility Operating License No. DPR-18: The amendment revised the Renewed Facility Operating License and Technical Specifications.

Date of initial notice in Federal Register: February 6, 2018 (83 FR 5281).

The Commission's related evaluation of the amendment is contained in a Safety Evaluation dated November 13, 2018.

No significant hazards consideration comments received: No.

Entergy Louisiana, LLC, and Entergy Operations, Inc., Docket No. 50-458, River Bend Station, Unit 1, West Feliciana Parish, Louisiana

Date of amendment request: November 15, 2017, as supplemented by letter dated April 26, 2018.

Brief description of amendment: The amendment revised the River Bend Station, Unit 1, Technical Specifications by replacing the existing specifications related to “operations with a potential for draining the reactor vessel” with revised requirements for reactor pressure vessel water inventory control to protect Safety Limit 2.1.1.3. Safety Limit 2.1.1.3 requires reactor vessel water level to be greater than the top of active irradiated fuel. The amendment adopted changes with variations, as noted in the license amendment request, and was based on the NRC-approved safety evaluation for Technical Specifications Task Force (TSTF) Traveler TSTF-542, Revision 2, “Reactor Pressure Vessel Water Inventory Control,” dated December 20, 2016.

Date of issuance: November 7, 2018.

Effective date: As of the date of issuance and shall be implemented within 120 days from the date of issuance.

Amendment No.: 193. A publicly-available version is in ADAMS under Accession No. ML18267A341; documents related to this amendment are listed in the Safety Evaluation enclosed with the amendment.

Facility Operating License No. NPF-47: The amendment revised the Facility Operating License and Technical Specifications.

Date of initial notice in Federal Register: January 30, 2018 (83 FR 4292). The supplemental letter dated April 26, 2018, provided additional information that clarified the application, did not expand the scope of the application as originally noticed, and did not change the NRC staff's original proposed no significant hazards consideration determination as published in the Federal Register.

The Commission's related evaluation of the amendment is contained in a Safety Evaluation dated November 7, 2018.

No significant hazards consideration comments received: No.

Florida Power & Light Company, Docket Nos. 50-250 and 50-251, Turkey Point Nuclear Generating Unit Nos. 3 and 4, Miami-Dade County, Florida

Date of amendment request: December 21, 2017, as supplemented by letter dated June 12, 2018.

Brief description of amendments: The amendments revised the Technical Specifications (TSs) pertaining to the Engineered Safety Features Actuation System instrumentation to resolve non-conservative actions associated with the Containment ventilation isolation and the Control Room ventilation isolation functions. In addition, the amendments revised the Control Room ventilation isolation function to no longer credit Containment radiation monitoring instrumentation, eliminated redundant radiation monitoring instrumentation requirements, eliminated select core alterations applicability requirements, relocated radiation monitoring and Reactor Coolant System leakage detection requirements within the TSs to align with their respective functions, and relocated the Spent Fuel Pool area monitoring requirements to licensee-controlled documents.

Date of issuance: November 14, 2018.

Effective date: As of the date of issuance and shall be implemented within 90 days of issuance.

Amendment Nos.: 283 (Unit No. 3) and 277 (Unit No. 4). A publicly-available version is in ADAMS under Accession No. ML18255A360; documents related to these amendments are listed in the Safety Evaluation enclosed with the amendments.

Renewed Facility Operating License Nos. DPR-31 and DPR-41: The amendments revised the Renewed Facility Operating Licenses and TSs.

Date of initial notice in Federal Register: February 27, 2018 (83 FR 8516). The supplemental letter dated June 12, 2018, provided additional information that clarified the application, did not expand the scope of the application as originally noticed, and did not change the NRC staff's original proposed no significant hazards consideration determination as published in the Federal Register.

The Commission's related evaluation of the amendments is contained in a Safety Evaluation dated November 14, 2018.

No significant hazards consideration comments received: No.

The Commission's related evaluation of the amendments is contained in a Safety Evaluation dated November 14, 2018.

No significant hazards consideration comments received: No.

Dated at Rockville, Maryland, on November 20, 2018.
For the Nuclear Regulatory Commission.
Craig G. Erlanger,
Director, Division of Operating Reactor Licensing, Office of Nuclear Reactor Regulation.

[FR Doc. 2018-25728 Filed 12-3-18; 8:45 am]

BILLING CODE 7590-01-P